AMTRAK REFORM COUNCIL

Notice of Meeting

AGENCY: Amtrak Reform Council.

ACTION: Notice of Special Public Business Meeting in Washington, D.C., and a Special Outreach Hearing for the New England states in Burlington, VT.

SUMMARY: As provided in Section 203 of the Amtrak Reform and Accountability Act of 1997 (Reform Act), the Amtrak Reform Council (ARC) gives notice of a special public two-day meeting of the Council. The first day of the meeting will be a public business meeting at which the Council will receive presentations on Florida's state rail program for the development of passenger rail services; developments in financing rail passenger rail equipment; and Amtrak's marketing strategy and its relation to the Corporation's strategic business plan. (Portions of this discussion may be closed to the public if issues requiring the discussion of proprietary information are raised.). The Council staff will also discuss its progress in implementing the Council's work plan for FY 2000.

On the second day the Council will hold an Outreach Hearing for the New England states to discuss Amtrak's services in New England outside of rail services on the Northeast Corridor. The Council has invited various state transportation officials, rail corridor officials, and Amtrak executives. They will discuss aspects of current and future intercity railroad passenger service in New England outside of the Northeast Corridor.

DATES: The Business Meeting will be held on Monday, July 17, 2000 from 9:00 a.m. to 5:00 p.m. The Council will hold its Outreach Hearing in Burlington, VT on Tuesday, July 18, 2000 from 9:00 a.m. to 3:00 p.m. Both the Business Meeting and Hearing are open to the general public unless propriety information is introduced.

ADDRESSES: The July 17, 2000, Business Meeting will take place Room 2230 in the headquarters of Department of Transportation (Nassif Building), 400 Seventh Street, SW, Washington, DC 20590. The July 18, 2000, Outreach Hearing will take place in the Best Western Windjammer, 1076 Williston Road, Burlington, VT 05403. Persons in need of special arrangements should contact the person listed below.

FOR FURTHER INFORMATION CONTACT: Deirdre O'Sullivan, Amtrak Reform Council, Room 7105, JM-ARC, 400 Seventh Street, SW, Washington, DC 20590, or by telephone at (202) 366-0591; FAX: 202-493-2061. For information regarding ARC's upcoming events, the agenda for meetings, the ARC's First Annual Report, information about ARC Council Members and staff, and much more, you can also visit the Council's website at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The ARAA prescribes that the Council is to consist of eleven members, including the Secretary of Transportation and ten others nominated by the President and the leadership of the Congress. Members serve a five-year term.

Issued in Washington, DC—July 3, 2000.
Thomas A. Till,
Executive Director.

[FR Doc. 00-17286 Filed 7-7-00; 8:45 am]

BILLING CODE 4910-06-P